DEPARTMENT OF THE INTERIOR

National Park Service

[NPS-WASO-NAGPRA-NPS0035863; PPWOCRADN0-PCU00RP14.R50000]

Notice of Inventory Completion: Gilcrease Museum, Tulsa, OK

AGENCY: National Park Service, Interior.

ACTION: Notice.

SUMMARY: In accordance with the Native American Graves Protection and Repatriation Act (NAGPRA), the Gilcrease Museum has completed an inventory of human remains and associated funerary objects and has determined that there is no cultural affiliation between the human remains and associated funerary objects and any Indian Tribe. The human remains and associated funerary objects were removed from Limestone and Morgan Counties, AL.

DATES: Disposition of the human remains and associated funerary objects in this notice may occur on or after June 20, 2023.

ADDRESSES: Laura Bryant, Gilcrease Museum, 800 S Tucker Drive, Tulsa, OK 74104, telephone (918) 596-2747, email laura-bryant@utulsa.edu.

SUPPLEMENTARY INFORMATION: This notice is published as part of the National Park Service's administrative responsibilities under NAGPRA. The determinations in this notice are the sole responsibility of the Gilcrease Museum. The National Park Service is not responsible for the determinations in this notice. Additional information on the determinations in this notice, including the results of consultation, can be found in the inventory or related records held by the Gilcrease Museum.

Description

All the human remains and associated funerary objects listed below were removed in the 1950s by Frank J. Soday, a collector and amateur archeologist. The Thomas Gilcrease Museum Association purchased the Soday Collection in 1982, and subsequently donated the collection to the Gilcrease Museum.

Human remains representing, at minimum, one individual were removed from Chemstrand, Harbor Island, in Morgan County, AL (Soday site number 504). No known individual was identified. The one associated funerary object is a lot consisting of faunal remains, including turtle and bird.

The associated funerary objects listed below were recently found at the Gilcrease Museum. The human remains with which these funerary objects are associated (together with additional associated funerary objects) were listed in a notice published in the Federal Register on September 20, 2016 (81 FR 64503-64505) and have since been repatriated.

One associated funerary object was removed from Limestone County, AL. Most likely, this object was removed from one of the following sites: 1LI27, 1LI49, 1LI52, or 1LI53 (Soday site number 399). The one associated funerary object is a lot consisting of lithic tools and projectile points.

Two associated funerary objects were removed from Skeleton Island (Soday site number 401) in Limestone County, AL. The two associated funerary objects are two lots consisting of lithic tools and projectile points.

One associated funerary object was removed from Center Island East (Soday site number 423) in Limestone County, AL. The one associated funerary object is a lot consisting of projectile points.

One associated funerary object was removed from East Middle Quad/TVA (Soday site number 428) in Limestone County, AL. The one associated funerary object is a lot consisting of lithic tools and projectile points.

One associated funerary object was removed from West Middle Quad, Decatur (Soday site number 435) in Morgan County, AL. The one associated funerary object is a lot consisting of lithic tools.

One associated funerary object was removed from Bald Knob Cemetery/Folsom Graveyard (Soday site number 456) in Morgan County, AL. The one associated funerary object is a lot consisting of lithic tools.

One associated funerary object was removed from Strap Handle Island (Soday site number 489) in Limestone County, AL. The one associated funerary object is a lot consisting of lithic tools.

Aboriginal Land

The human remains and associated funerary objects in this notice were removed from known geographic locations. These locations are the aboriginal lands of one or more Indian Tribes. The following information was used to identify the aboriginal land: a final judgment of the Indian Claims Commission or the United States Court of Claims, and a treaty.

Determinations

Pursuant to NAGPRA and its implementing regulations, and after consultation with the appropriate Indian Tribes, the Gilcrease Museum has determined that:

• The human remains described in this notice represent the physical remains of one individual of Native American ancestry.

• The nine objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Cherokee Nation; Eastern Band of Cherokee Indians; The Chickasaw Nation; The Muscogee (Creek) Nation; and the United Keetoowah Band of Cherokee Indians in Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after June 20, 2023. If competing requests for disposition are received, the Gilcrease Museum must determine the most appropriate requestor prior to disposition. Requests for joint disposition of the human remains and associated funerary objects are considered a single request and not competing requests. The Gilcrease Museum is responsible for sending a copy of this notice to the Indian Tribes identified in this notice.

Authority: Native American Graves Protection and Repatriation Act, 25 U.S.C. 3003, and the implementing regulations, 43 CFR 10.9 and 10.11.

Dated: May 10, 2023.
Melanie O'Brien,
Manager, National NAGPRA Program.

[FR Doc. 2023-10558 Filed 5-17-23; 8:45 am]

BILLING CODE 4312-52-P